SMALL BUSINESS ADMINISTRATION

13 CFR Part 124

RIN 3245-AF53

8(a) Business Development Program Regulation Changes; Tribal Consultation

AGENCY: U.S. Small Business Administration

ACTION: Notice of tribal consultation meeting; request for comments.

SUMMARY: The U.S. Small Business Administration (SBA or Agency) announces that it is holding a tribal consultation meeting in Las Vegas, Nevada to discuss the recent changes to the 8(a) Business Development (BD) program regulations and take general comments on 8(a) BD program provisions. Additionally, SBA will take comments on the mandatory reporting of community benefits of provision 13 CFR 124.604. Testimony presented at this tribal consultation meeting will become part of the administrative record for SBA's consideration when the Agency deliberates on approaches to tracking community benefits.

DATES: The tribal consultation meeting will be held on Thursday, March 17, 2011 from 1 p.m. to 3 p.m. at the Reservation Economic Summit (RES) Conference in the Las Vegas Hilton, Las Vegas, Nevada.

The tribal consultation meeting pre-registration deadline date is March 10, 2011 at 5 p.m. (Eastern Standard Time).

ADDRESSES: 1. The Las Vegas Tribal Consultation Meeting address is the Las Vegas Hilton, 3000 Paradise Road, Las Vegas, NV 89109.

2. Send pre-registration requests to attend and/or testify to Mr. Marcus Grignon, Office of Native American Affairs, U.S. Small Business Administration, 409 Third Street, SW., Washington, DC 20416; by e-mail to marcus.grignon@sba.gov; or by facsimile to (202) 481-6386.

3. Send all written comments to Ms. LaTanya Wright, Senior Advisor, Office of Business Development, U.S. Small Business Administration, 409 3rd Street, SW., Washington, DC 20416; BDRegs@sba.gov or by facsimile to (202) 481-2740.

FOR FURTHER INFORMATION CONTACT: If you have questions on SBA's Final Rule for the 8(a) BD Program, call or e-mail LaTanya Wright, Senior Advisor, Office of Business Development, at (202) 205-5852, or LaTanya.Wright@sba.gov. If you have questions about registering or attending the tribal consultation, please contact Mr. Marcus Grignon at (202) 401-1455, or marcus.grignon@sba.gov.

SUPPLEMENTARY INFORMATION:

I. Background

On February 11, 2011 (74 FR 55694) SBA issued a Final Rule, publicly available at http://frwebgate1.access.gpo.gov/cgibin/TEXTgate.cgi?WAISdocID=kkdLxk/1/1/0&WAISaction=retrieve. In that document, SBA made changes to the 8(a) BD Program regulations, its small business size regulations and regulations affecting Small Disadvantaged Businesses (SDBs). Some of the changes involve technical issues. Other changes are more substantive and result from SBA's experience in implementing 8(a) BD Program regulations. One such change is the addition of reporting requirements 8(a) Participants. Specifically, the final rule requires those 8(a) Participants owned by ANCs, tribes, NHOs, and CDCs to submit overall information relating to how 8(a) participation has benefited the tribal or native members and/or the tribal, native or other community as part of each Participant's annual review submissions, including information about funding cultural programs, employment assistance, jobs, scholarships, internships, subsistence activities, and other services to the affected community.

SBA received several comments recommending it delay implementation of any reporting of benefits requirement to allow affected firms to gather and synthesize this data. In addition, these commenters encouraged SBA to establish a task force, comprised of native leaders and SBA, to further study how this requirement could be best implemented without imposing an undue burden on tribes, ANCs, NHOs or CDCs, or on their affected 8(a) Participants. SBA agreed and delayed implementation of new § 124.604 for six months after the effective date for the other provisions of the final rule. These tribal consultations are for the purpose of developing best practices for collecting and utilizing the data. SBA expects that two Participants owned by the same tribe, ANC, NHO or CDC will submit identical data describing the benefits provided by the tribe, ANC, NHO or CDC.

II. Tribal Consultation Meeting

The purpose of this tribal consultation meeting is to conform to the requirements of Executive Order 13175, “Consultation and Coordination with Indian Tribal Governments”; to provide interested parties with an opportunity to discuss the 8(a) BD Program regulatory changes; and for SBA to obtain the comments of SBA's stakeholders on approaches to tracking community benefits. In addition to general oral and written comments about 8(a) BD program provisions, SBA is requesting oral and written comments on approaches to tracking community benefits as required by the 8(a) BD Program regulations. SBA considers tribal consultation meetings a valuable component of its deliberations and believes that this tribal consultation meeting will allow for constructive dialogue with the tribal community, Tribal Leaders, Elders and elected members of Alaska Native Villages or their appointed representatives.

The format of this tribal consultation meeting will consist of a panel of SBA representatives who will preside over the session. The oral and written testimony will become part of the administrative record for SBA's consideration. Written testimony may be submitted in lieu of oral testimony.

SBA will analyze the testimony, both oral and written, along with any written comments received. SBA officials may ask questions of a presenter to clarify or further explain the testimony. The purpose of the tribal consultation is to discuss changes to the 8(a) BD Program with the tribal community, Tribal Leaders, Elders and elected members of Alaska Native Villages or their appointed representatives and to seek their comments on approaches to tracking community benefits. SBA requests that the comments focus on the new regulatory changes as stated in the Agency's Final Rule. SBA requests that commenters not raise issues pertaining to other SBA small business programs.

Presenters may provide a written copy of their testimony. SBA will accept written material that the presenter wishes to provide that further supplements his or her testimony. Electronic or digitized copies are encouraged.

The tribal consultation meeting will be held for two hours. The meeting will begin at 1 p.m. and end at 3 p.m. (Pacific Standard Time). SBA will adjourn early if all those scheduled have delivered their testimony.

III. Registration

SBA respectfully requests that an elected or appointed representative of the tribal communities that are interested in attending please pre-register in advance and indicate whether you would like to testify at the hearing. Registration requests should be received by SBA by March 10, 2011 at 5 p.m. (Eastern Standard Time). Please contact Mr. Marcus Grignon in SBA's Office of Native American Affairs in writing at marcus.grignon@sba.gov or by facsimile at (202) 481-2740.

If you are interested in testifying, please include the following information relating to the person testifying: Name, Organization affiliation, Address, Telephone number, E-mail address and Fax number. SBA will attempt to accommodate all interested parties who wish to present testimony. Based on the number of registrants, it may be necessary to impose time limits to ensure that everyone who wishes to testify has the opportunity to do so. SBA will confirm in writing the registration of presenters and attendees.

IV. Information on Service for Individuals With Disabilities

For information on facilities or services for individuals with disabilities or to request special assistance at the tribal consultation meeting, contact Mr. Marcus Grignon at the telephone number or e-mail address indicated under the FOR FURTHER INFORMATION CONTACT section of this notice.

Authority: 15 U.S.C. 632, 634(b)(6), 636(b), 637(a), 644 and 662(5); Pub. L. 105-135, sec. 401 et seq., 111 Stat. 2592; and, E.O. 13175, 65 FR 67249.

Dated: March 2, 2011.
Clara Pratte,
National Director for the Office of Native American Affairs.

[FR Doc. 2011-5118 Filed 3-4-11; 8:45 am]

BILLING CODE 8025-01-P